DEPARTMENT OF EDUCATION

Supplementary Notice

SUMMARY: The Leader, Regulatory Information Management Group, Office of the Chief Information Officer, invites comments on the proposed information collection request published on April 16, 2004 (Page 20603, Column 3) entitled, “Performance Based Data Management Initiative (PBDMI)” as required by the Paperwork Reduction Act of 1995.

DATES: Interested persons are invited to submit comments on or before June 15, 2004.

Dated: June 3, 2004.
Angela C. Arrington,
Leader, Regulatory Information Management Group, Office of the Chief Information Officer.

On April 16, 2004 the United States Department of Education requested public comments under the Paperwork Reduction Act for the Performance Based Data Management Initiative (PBDMI). This supplementary notice provides some necessary additional material to explain this collection activity and invite interested persons to access the site again to obtain updated documents on PBDMI.

Civil Rights Data Collection

For many years, the Office of Civil Rights has conducted a Bi-annual collection of data from a sample of districts and schools to measure education trends and evaluate data associated with ensuring that the laws and regulations providing all students with equal access to education are being enforced. In this next information collection cycle, this data collection will be coordinated with PBDMI in an effort to reduce the paperwork burden on those educators providing this information. Comments from the public regarding the collection of this data should be included as part of this clearance process.

Use of the Collected Data

The primary and immediate use of this data will be to evaluate the education outcomes of selected federally funded education programs in elementary and secondary education. This data will be used by federal program managers and analysts to ascertain the status and progress of the education programs for which they are responsible. It is expected that this data will be made available to State and local education agencies and the public after data quality has been established and compliance with all laws and regulations protecting the privacy of individuals has been met. There are no current plans to provide this information to any other interested groups except through the general public access situation just mentioned.

Data To Be Provided

PBDMI data to be collected over the next twelve months will include data about schools, districts, and States for the 2002-2003, 2003-2004, and 2004-2005 school years. Many of the States have already provided a significant portion of the 2002-2003 school year data as part of the pilot test that was conducted this past year. Quality data submitted during the pilot test will not need to be resubmitted. Data for the 2003-2004 school year will be collected in the fall of this year and data for the 2004-2005 school year will be collected as it becomes available throughout the 2004-2005 school year. Data specifically associated with the Civil Rights Data Collection will be collected starting in December 2004 and due by the end of March 2005.

Further Inquiry Invited

The PBDMI collection clearance submission has been revised and expanded to provide a more comprehensive and understandable description and justification of this activity. Interested persons are invited to visit the Web site OCIO_RIMG@ed.gov or write to the following address and request a paper copy of this clearance package for their review: U.S. Department of Education, 400 Maryland Avenue, SW., Potomac Center, 9th Floor, Washington, DC 20202-4700. Comments regarding burden and/or the collection activity requirements should be directed to Joseph Schubart at his e-mail address Joe_Schubart@ed.gov. Individuals who use a telecommunications device for the deaf (TDD) may call the Federal Information Relay Service (FIRS) at 1-800-877-8339.

[FR Doc. 04-12894 Filed 6-7-04; 8:45 am]

BILLING CODE 4000-01-P